DEPARTMENT OF DEFENSE

Department of the Army

[Docket ID: USA-2011-0004]

Privacy Act of 1974; System of Records

AGENCY: Department of the Army, DoD.

ACTION: Notice to delete a system of Records.

SUMMARY: The Department of the Army is deleting a system of records notice from its existing inventory of record systems subject to the Privacy Act of 1974, (5 U.S.C. 552a), as amended.

DATES: This proposed action will be effective without further notice on May 2, 2011 unless comments are received which result in a contrary determination.

ADDRESSES: You may submit comments, identified by docket number and/Regulatory Information Number (RIN) and title, by any of the following methods:

* Federal Rulemaking Portal: http://www.regulations.gov.

Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr Leroy Jones at (703) 428-6185, or Department of the Army, Privacy Office, U.S. Army Records Management and Declassification Agency, 7701 Telegraph Road, Casey Building, Suite 144, Alexandria, VA 22325-3905.

SUPPLEMENTARY INFORMATION: The Department of the Army systems of records notices subject to the Privacy Act of 1974, (5 U.S.C. 552a), as amended, have been published in the Federal Register and are available from the FOR FURTHER INFORMATION CONTACT address above.

The Department of the Army proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: March 24, 2011.
Morgan F. Park,
Alternate OSD Federal Register Liaison Officer, Department of Defense.

Deletion:

A0614-100/200 TRADOC

Recruiter Identification/Assignment Records (July 7, 2008, 73 FR 38415).

Reason:

The procedures for identifying, screening, and selecting Soldiers for recruiting duty is now the responsibility and function of the Human Resources Command (HRC). The branch at HRC responsible for this function is the TRADOC Assignments Branch (TAB), who oversees the selection, assignment, and scheduling of training for all recruiters, drill sergeants, and Advanced Individual Training (AIT) platoon sergeants.

The U.S. Army Recruiting Command (USAREC) is no longer involved in the screening, selection, and management of recruiters until they graduate from the Army Recruiting Course (ARC).

[FR Doc. 2011-7693 Filed 3-31-11; 8:45 am]

BILLING CODE 5001-06-P